DEPARTMENT OF TRANSPORTATION

Federal Aviation Administration

14 CFR Part 39

[Docket No. FAA-2004-18784; Directorate Identifier 2004-NM-59-AD]

RIN 2120-AA64

Airworthiness Directives; Boeing Model 747-400, -400D, -400F; 767-200, -300, -300F; and 777-200 and -300 Series Airplanes

AGENCY: Federal Aviation Administration (FAA), DOT.

ACTION: Notice of proposed rulemaking (NPRM).

SUMMARY: The FAA proposes to adopt a new airworthiness directive (AD) for certain Boeing Model 747-400, -400D, -400F; 767-200, -300, -300F; and 777-200 and -300 series airplanes. This proposed AD would require installing a jumper wire between the wiring of the fire extinguisher switch and the fuel shutoff switch for each engine, and other specified actions. This proposed AD is prompted by a certain combination of conditions, which could cause the fuel spar shutoff valves to remain partially open. We are proposing this AD to prevent a latent open circuit that could leave the fuel spar shutoff valve in a partially open position when the engine fire switch is activated, which could result in fuel from the engine feeding an uncontrolled fire in the engine or the strut.

DATES: We must receive comments on this proposed AD by September 20, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or at the Docket Management Facility, U.S. Department of Transportation, 400 Seventh Street, SW., room PL-401, on the plaza level of the Nassif Building, Washington, DC.

FOR FURTHER INFORMATION CONTACT: Bernie Gonzalez, Aerospace Engineer, Propulsion Branch, ANM-140S, FAA, Transport Airplane Directorate, Seattle Aircraft Certification Office, 1601 Lind Avenue, SW., Renton, Washington 98055-4056; telephone (425) 917-6498; fax (425) 917-6590.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18784; Directorate Identifier 2004-NM-59-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that a certain combination of conditions could cause the fuel spar shutoff valves to remain partially open, potentially contributing to a fire fed by engine fuel at the engine or strut. The engine fire procedure requires the pilot to set the engine fuel control switch to the cutoff position and then activate the engine fire switch. These actions transfer power required to close the fuel spar shutoff valves between the wires connecting the fuel control switch and the engine fire switch. During an engine fire, the wire connected to the engine fire switch could have a latent open circuit that could leave the fuel spar shutoff valve in a partially open position when the engine fire switch is activated. This condition, if not corrected, could result in fuel from the engine feeding an uncontrolled fire in the engine or the strut.

Relevant Service Information

We have reviewed the following Boeing Special Attention Service Bulletins, which describe procedures for installing a jumper wire between the wiring of the fire extinguisher switch and the fuel shutoff switch for each engine, and other specified actions:

• 747-28-2238 (for Model 747-400, -400D, and -400F series airplanes), dated October 18, 2001.

• 767-28-0066 (for Model 767-200, -300, and -300F series airplanes), Revision 1, dated May 29, 2003.

• 777-28-0025 (for Model 777-200 and -300 series airplanes), dated January 10, 2002.

The other specified actions include testing the electrical connections after installing the jumper wires, and operational testing of the fuel spar shutoff valves.

Accomplishing the actions specified in the service information is intended to adequately address the identified unsafe condition.

FAA's Determination and Requirements of the Proposed AD

We have evaluated all pertinent information and identified an unsafe condition that is likely to exist or develop on other airplanes of this same type design. Therefore, we are proposing this AD, which would require installing a jumper wire between the wiring of the fire extinguisher switch and the fuel shutoff switch for each engine, and other specified actions. The proposed AD would require you to use the service information described previously to perform these actions, except as discussed under “Differences Between the Proposed AD and Service Information.”

Differences Between the Proposed AD and Service Information

The service bulletins do not include a compliance time for installing the jumper wire; however, the manufacturer recommends a compliance time of 60 months, with which we concur. Paragraph (f) of this proposed AD requires installing the jumper wire within 60 months after the effective date of the AD.

Costs of Compliance

This proposed AD would affect about 1,882 airplanes worldwide. We estimate that 579 airplanes of U.S. registry would be affected by this proposed AD. The following table provides the estimated costs for U.S. operators to comply with this proposed AD.

Estimated Costs
Action model series | Work hours | Average labor rate per hour | Parts | Cost per airplane
Installation
747-400, -400D, -400F | 4 | $65 | $1,450 | $1,710
Test
747-400, -400D, -400F | 2 | 65 | None | 130
Installation
767-200, -300, -300F | 4 | 65 | 500 | 760
Test
767-200, -300, -300F | 2 | 65 | None | 130
Installation
777-200, -300 | 4 | 65 | 220 | 480
Test
777-200, -300 | 2 | 65 | None | 130

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-18784; Directorate Identifier 2004-NM-59-AD.

Comments Due Date

(a) The Federal Aviation Administration (FAA) must receive comments on this AD action by September 20, 2004.

Affected ADs

(b) None.

Applicability

(c) This AD applies to Boeing Model 747-400, -400D, and -400F series airplanes, line numbers 1 through 1276 inclusive; 767-200, -300, and -300F series airplanes, line numbers 1 through 850 inclusive; and 777-200 and -300 series airplanes, line numbers 1 through 360 inclusive; certificated in any category.

Unsafe Condition

(d) This AD was prompted by a certain combination of conditions, which could cause the fuel spar shutoff valves to remain partially open. We are issuing this AD to prevent a latent open circuit that could leave the fuel spar shutoff valve in a partially open position when the engine fire switch is activated, which could result in fuel from the engine feeding an uncontrolled fire in the engine or the strut.

Compliance

(e) You are responsible for having the actions required by this AD performed within the compliance times specified, unless the actions have already been done.

Installation of Jumper Wire

(f) Within 60 months after the effective date of this AD: Install a jumper wire between the wiring of the fire extinguisher switch and the fuel shutoff switch for each engine, and do all other specified actions in the Accomplishment Instructions of Boeing Special Attention Service Bulletin 747-28-2238 (for Model 747-400, -400D, and -400F series airplanes), dated October 18, 2001; 767-28-0066 (for Model 767-200, -300, and -300F series airplanes), Revision 1, dated May 29, 2003; or 777-28-0025 (for Model 777-200 and -300 series airplanes), dated January 10, 2002; as applicable.

Credit for Actions Accomplished Previously

(g) Accomplishment of the actions required by paragraph (f) before the effective date of this AD, in accordance with Boeing Special Attention Service Bulletin 747-28-2238, dated October 18, 2001; 767-28-0066, Revision 1, dated May 29, 2003; or 777-28-0025, dated January 10, 2002; as applicable; is considered acceptable for compliance with the corresponding action of paragraph (f) of this AD.

Alternative Methods of Compliance (AMOCs)

(h) The Manager, Seattle Aircraft Certification Office (ACO), FAA, has the authority to approve AMOCs for this AD, if requested in accordance with the procedures found in 14 CFR 39.19.

Issued in Renton, Washington, on July 30, 2004.
Ali Bahrami,
Manager, Transport Airplane Directorate, Aircraft Certification Service.

[FR Doc. 04-17985 Filed 8-5-04; 8:45 am]

BILLING CODE 4910-13-P